DEPARTMENT OF TRANSPORTATION

Federal Aviation Administration

14 CFR Part 39

[Docket No. FAA-2006-26371 Directorate Identifier 2006-CE-70-AD; Amendment 39-14917; AD 2007-03-06]

RIN 2120-AA64

Airworthiness Directives; Pilatus Aircraft Limited PC-12 and PC-12/45 Airplanes

AGENCY: Federal Aviation Administration (FAA), Department of Transportation (DOT).

ACTION: Final rule.

SUMMARY: We are adopting a new airworthiness directive (AD) for the products listed above. This AD results from mandatory continuing airworthiness information (MCAI) issued by an aviation authority of another country to identify and correct an unsafe condition on an aviation product. The MCAI describes the unsafe condition as executive seats equipped with pedestal legs that were produced using a material that deviates from the approved design data. We are issuing this AD to require actions to correct the unsafe condition on these products.

DATES: This AD becomes effective March 8, 2007.

The Director of the Federal Register approved the incorporation by reference of certain publications listed in this AD as of March 8, 2007.

ADDRESSES: You may examine the AD docket on the Internet at http://dms.dot.gov or in person at the Docket Management Facility, U.S. Department of Transportation, 400 Seventh Street, SW., Nassif Building, Room PL-401, Washington, DC.

FOR FURTHER INFORMATION CONTACT: Doug Rudolph, Aerospace Engineer, FAA, Small Airplane Directorate, 901 Locust, Room 301, Kansas City, Missouri 64106; telephone: (816) 329-4059; fax: (816) 329-4090.

SUPPLEMENTARY INFORMATION:

Streamlined Issuance of AD

The FAA is implementing a new process for streamlining the issuance of ADs related to MCAI. The streamlined process will allow us to adopt MCAI safety requirements in a more efficient manner and will reduce safety risks to the public. This process continues to follow all FAA AD issuance processes to meet legal, economic, Administrative Procedure Act, and Federal Register requirements. We also continue to meet our technical decision-making responsibilities to identify and correct unsafe conditions on U.S.-certificated products.

This AD references the MCAI and related service information that we considered in forming the engineering basis to correct the unsafe condition. The AD contains text copied from the MCAI and for this reason might not follow our plain language principles.

Discussion

We issued a notice of proposed rulemaking (NPRM) to amend 14 CFR part 39 to include an AD that would apply to the specified products. That NPRM was published in the Federal Register on December 11, 2006 (71 FR 71497). That NPRM proposed to correct an unsafe condition for the specified products. The MCAI states that executive seats equipped with pedestal legs were produced using a material that deviates from the approved design data. As a consequence the pedestal legs may not perform as intended under emergency landing conditions. In order to correct and control the situation, this AD requires a one time inspection to identify the Vendor Part Number (VPN) of the pedestal legs and the Serial Number (S/N) of the executive seat and the replacement of the pedestal legs if necessary.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a Note within the AD.

Costs of Compliance

We estimate that this AD would affect about 394 products of U.S. registry. We also estimate that it would take about 0.5 work-hours per product to comply with the inspection requirement of this AD. In addition, we estimate this AD would affect about 59 seats and take about 1 work-hour per seat to comply with the parts replacement requirement of this AD. The average labor rate is $80 per work-hour. Where the service information lists required parts costs that are covered under warranty, we have assumed that there will be no charge for these costs. As we do not control warranty coverage for affected parties, some parties may incur costs higher than estimated here. Based on these figures, we estimate the cost of this AD on U.S. operators to be $15,760, or $40 per product for inspection and $4,720, or $80 per seat for parts replacement.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://dms.dot.gov; or in person at the Docket Management Facility between 9 a.m. and 5 p.m., Monday through Friday, except Federal holidays. The AD docket contains the NPRM, the regulatory evaluation, any comments received, and other information. The street address for the Docket Office (telephone (800) 647-5227) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2007-03-06 Pilatus Aircraft Limited: Amendment 39-14917; Docket No. FAA-2006-26371; Directorate Identifier 2006-CE-70-AD.

Effective Date

(a) This airworthiness directive (AD) becomes effective March 8, 2007.

Affected ADs

(b) None.

Applicability

(c) This AD applies to PC-12 and PC-12/45 airplanes, serial numbers 101 through 683, that are:

(1) Certificated in any category; and

(2) Equipped with executive passenger seats Model Number 4006 manufactured by DeCrane Aircraft Seating Company, Inc. Vendor Part Number (VPN) 403150-1 or 403150-2 with Serial Numbers (S/N) identified in DeCrane Aircraft Mandatory Service Bulletin SB05147 Revision B, dated June 26, 2006.

Reason

(d) The mandatory continuing airworthiness information (MCAI) states that executive seats equipped with pedestal legs were produced using a material that deviates from the approved design data. As a consequence the pedestal legs may not perform as intended under emergency landing conditions. In order to correct and control the situation, this AD requires a one time inspection to identify the VPN of the pedestal legs and the S/N of the executive seat and the replacement of the pedestal legs if necessary.

Actions and Compliance

(e) Unless already done, do the following actions.

(1) Within 30 days after the effective date of this AD:

(i) Perform an inspection to identify the VPN of the pedestal legs and the S/N of the executive seat following the accomplishment instructions in Pilatus PC-12 Service Bulletin No.: 25-032, dated October 2, 2006.

(ii) If during the inspection required by paragraph (e)(1)(i) of this AD any pedestal legs with a VPN and executive seats with a S/N which correspond with the data in DeCrane Aircraft Mandatory Service Bulletin SB05147 Revision B, dated June 26, 2006, are found, prior to further flight, replace the affected pedestal legs following the accomplishment instructions in Pilatus PC-12 Service Bulletin No.: 25-032, dated October 2, 2006, with new pedestal legs with VPN 431005-17 and 431005-18. The removed parts must be returned to Pilatus.

(2) As of the effective date of this AD, no person shall install any executive seats model number 4006 produced by DeCrane Aircraft Seating Company, Inc., VPN 403150-1 or 403150-2 with S/Ns identified in DeCrane Aircraft Mandatory Service Bulletin SB05147 Revision B, dated June 26, 2006, on any Pilatus Models PC-12 and PC-12/45 airplane, unless the mandatory actions of this AD have been implemented.

FAA AD Differences

Note: This AD differs from the MCAI and/or service information as follows: No differences.

Other FAA AD Provisions

(f) The following provisions also apply to this AD:

(1) Alternative Methods of Compliance (AMOCs): The Manager, Standards Staff, FAA, ATTN: Doug Rudolph, Aerospace Engineer, FAA, Small Airplane Directorate, 901 Locust, Room 301, Kansas City, Missouri 64106; telephone: (816) 329-4059; fax: (816) 329-4090, has the authority to approve AMOCs for this AD, if requested using the procedures found in 14 CFR 39.19.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et. seq.), the Office of Management and Budget (OMB) has approved the information collection requirements and has assigned OMB Control Number 2120-0056.

Related Information

(g) Refer to Federal Office of Civil Aviation (FOCA) AD HB-2006-444, dated November 7, 2006; Pilatus Aircraft Limited Service Bulletin No.: 25-032, dated October 2, 2006; and DeCrane Aircraft Mandatory Service Bulletin SB05147 Revision B, dated June 26, 2006, for related information.

Material Incorporated by Reference

(h) You must use Pilatus PC-12 Service Bulletin No.: 25-032, dated October 2, 2006; and DeCrane Aircraft Mandatory Service Bulletin SB05147 Revision B, dated June 26, 2006, to do the actions required by this AD, unless the AD specifies otherwise.

(1) The Director of the Federal Register approved the incorporation by reference of this service information under 5 U.S.C. 552(a) and 1 CFR part 51.

(2) For service information identified in this AD, contact Pilatus Aircraft Ltd., Customer Support Manager, CH-6371 STANS, Switzerland; telephone: + 41 41 619 6208; fax: + 41 41 619 7311; e-mail: SupportPC12@pilatus-aircaft.com; or Pilatus Business Aircraft Ltd., Product Support Department, 11755 Airport Way, Broomfield, CO 80021; telephone: (303) 465-9099, fax: (303) 465-6040; e-mail: Productsupport@PilBal.com.

(3) You may review copies at the FAA, Central Region, Office of the Regional Counsel, 901 Locust, Room 506, Kansas City, Missouri 64106; or at the National Archives and Records Administration (NARA). For information on the availability of this material at NARA, call 202-741-6030, or go to: http://www.archives.gov/federal-register/cfr/ibr-locations.html.

Issued in Kansas City, Missouri, on January 24, 2007.
Kim Smith,
Manager, Small Airplane Directorate, Aircraft Certification Service.

[FR Doc. E7-1398 Filed 1-31-07; 8:45 am]

BILLING CODE 4910-13-P